DEPARTMENT OF ENERGY

Federal Energy Regulatory Commission

Combined Notice of Filings #1

Take notice that the Commission received the following electric corporate filings:

Docket Numbers: EC20-105-000.

Applicants: Arlington Valley Solar Energy II, LLC, Centinela Solar Energy, LLC.

Description: Joint Application for Approval under Section 203 of the Federal Power Act, et al. of Arlington Valley Solar Energy II, LLC, et al.

Filed Date: 9/28/20.

Accession Number: 20200928-5159.

Comments Due: 5 p.m. ET 10/19/20.

Take notice that the Commission received the following exempt wholesale generator filings:

Docket Numbers: EG20-250-000.

Applicants: Topaz Generating, LLC.

Description: Notice of Self-Certification of Exempt Wholesale Generator Status of Topaz Generating, LLC.

Filed Date: 9/28/20.

Accession Number: 20200928-5137.

Comments Due: 5 p.m. ET 10/19/20.

Take notice that the Commission received the following electric rate filings:

Docket Numbers: ER20-67-001; ER20-116-001; ER20-113-001.

Applicants: Evergy Metro, Inc., Evergy Missouri West, Inc., Evergy Kansas Central, Inc.

Description: Notice of Change in Status of the Evergy MBR Sellers under ER20-67, et al.

Filed Date: 9/28/20.

Accession Number: 20200928-5172.

Comments Due: 5 p.m. ET 10/19/20.

Docket Numbers: ER20-1890-001.

Applicants: California Independent System Operator Corporation.

Description: Compliance filing: 2020-09-29 Limited Time Waiver Petition—Postpone Effect. Date to Jan. 1, 2021 to be effective N/A.

Filed Date: 9/29/20.

Accession Number: 20200929-5124.

Comments Due: 5 p.m. ET 10/20/20.

Docket Numbers: ER20-1890-002.

Applicants: California Independent System Operator Corporation.

Description: Compliance filing: 2020-09-29 Intertie Deviation Settlement Compliance Filing to be effective 1/1/2021.

Filed Date: 9/29/20.

Accession Number: 20200929-5131.

Comments Due: 5 p.m. ET 10/20/20.

Docket Numbers: ER20-2550-002.

Applicants: Entergy Mississippi, LLC.

Description: Tariff Amendment: EML Choctaw Reactive Amendment to be effective 10/1/2020.

Filed Date: 9/29/20.

Accession Number: 20200929-5132.

Comments Due: 5 p.m. ET 10/20/20.

Docket Numbers: ER20-2588-001.

Applicants: PJM Interconnection, L.L.C.

Description: Tariff Amendment: Errata to correct metadata in ER20-2588-000 re: Cancellation of SA No. 4820 to be effective 6/30/2020.

Filed Date: 9/29/20.

Accession Number: 20200929-5038.

Comments Due: 5 p.m. ET 10/20/20.

Docket Numbers: ER20-3013-000.

Applicants: Public Service Company of Colorado.

Description: Tariff Cancellation: 2020-09-28_PSC-Big Horn-PLGIA-572-0.1.0-NOC to be effective 9/29/2020.

Filed Date: 9/28/20.

Accession Number: 20200928-5132.

Comments Due: 5 p.m. ET 10/19/20.

Docket Numbers: ER20-3014-000.

Applicants: Delmarva Power & Light Company, PJM Interconnection, L.L.C.

Description: Compliance filing: Delmarva Power & Light Company submits Compliance Filing re: ER09-1158 to be effective N/A.

Filed Date: 9/28/20.

Accession Number: 20200928-5139.

Comments Due: 5 p.m. ET 10/19/20.

Docket Numbers: ER20-3015-000.

Applicants: PJM Interconnection, L.L.C.

Description: § 205(d) Rate Filing: Revised ISA, Service Agreement No. 1503; Queue No. AD2-001 to be effective 8/31/2020.

Filed Date: 9/29/20.

Accession Number: 20200929-5045.

Comments Due: 5 p.m. ET 10/20/20.

Docket Numbers: ER20-3016-000.

Applicants: Dominion Energy South Carolina, Inc.

Description: § 205(d) Rate Filing: SCPSA Interconnection Agr Amendment to be effective 11/30/2020.

Filed Date: 9/29/20.

Accession Number: 20200929-5056.

Comments Due: 5 p.m. ET 10/20/20.

Docket Numbers: ER20-3017-000.

Applicants: Sierra Pacific Power Company.

Description: § 205(d) Rate Filing: Rate Schedule No. 55 SPPC & Liberty 3rd Amended Service Agr to be effective 12/30/2020.

Filed Date: 9/29/20.

Accession Number: 20200929-5061.

Comments Due: 5 p.m. ET 10/20/20.

Docket Numbers: ER20-3018-000.

Applicants: PJM Interconnection, L.L.C.

Description: § 205(d) Rate Filing: Original WMPA, Service Agreement No. 5803; Queue No. AF2-270 to be effective 9/8/2020.

Filed Date: 9/29/20.

Accession Number: 20200929-5065.

Comments Due: 5 p.m. ET 10/20/20.

Docket Numbers: ER20-3019-000.

Applicants: Nevada Power Company.

Description: § 205(d) Rate Filing: Service Agreement No. 15-00086 NPC NITSA to be effective 12/30/2020.

Filed Date: 9/29/20.

Accession Number: 20200929-5071.

Comments Due: 5 p.m. ET 10/20/20.

Docket Numbers: ER20-3020-000.

Applicants: PJM Interconnection, L.L.C.

Description: Tariff Cancellation: Notice of Cancellation of ISA, Service Agreement No. 4781; Queue No. AB1-082 to be effective 9/18/2020.

Filed Date: 9/29/20.

Accession Number: 20200929-5082.

Comments Due: 5 p.m. ET 10/20/20.

Docket Numbers: ER20-3021-000.

Applicants: New York Independent System Operator, Inc., New York State Electric & Gas Corporation.

Description: § 205(d) Rate Filing: Joint NYISO & NYSEG 205 re: SGIA (SA 2553) between NYISO, NYSEG and Janis Solar to be effective 9/15/2020.

Filed Date: 9/29/20.

Accession Number: 20200929-5083.

Comments Due: 5 p.m. ET 10/20/20.

Docket Numbers: ER20-3022-000.

Applicants: Public Service Company of Colorado.

Description: Tariff Cancellation: 2020-09-29_PSC-Big Horn-E&P-557-0.1.0-NOC to be effective 9/30/2020.

Filed Date: 9/29/20.

Accession Number: 20200929-5087.

Comments Due: 5 p.m. ET 10/20/20.

Docket Numbers: ER20-3023-000.

Applicants: PJM Interconnection, L.L.C.

Description: § 205(d) Rate Filing: Original WMPA, Service Agreement No. 5809; Queue No. AF2-273 to be effective 9/10/2020.

Filed Date: 9/29/20.

Accession Number: 20200929-5093.

Comments Due: 5 p.m. ET 10/20/20.

Docket Numbers: ER20-3024-000.

Applicants: PJM Interconnection, L.L.C.

Description: § 205(d) Rate Filing: Amendment to ISA, Service Agreement No. 5631; Queue No. AC1-098/AC1-099 to be effective 3/19/2020.

Filed Date: 9/29/20.

Accession Number: 20200929-5130.

Comments Due: 5 p.m. ET 10/20/20.

Docket Numbers: ER20-3025-000.

Applicants: GridLiance High Plains LLC.

Description: § 205(d) Rate Filing: Gridliance HP Revisions to Attachment K to be effective 11/29/2020.

Filed Date: 9/29/20.

Accession Number: 20200929-5133.

Comments Due: 5 p.m. ET 10/20/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 29, 2020.
Nathaniel J. Davis, Sr.,
Deputy Secretary.

[FR Doc. 2020-21949 Filed 10-2-20; 8:45 am]

BILLING CODE 6717-01-P